DEPARTMENT OF TRANSPORTATION

Federal Aviation Administration

Approval of Noise Compatibility Program Update, Fort Lauderdale-Hollywood International Airport (FLL), Fort Lauderdale, Florida

AGENCY: Federal Aviation Administration, DOT.

ACTION: Notice.

SUMMARY: The Federal Aviation Administration (FAA) announces its findings on the Noise Compatibility Program (NCP) Update submitted by Broward County for the Fort Lauderdale-Hollywood International Airport (FLL). See supplementary information for details. On October 3, 2019, the FAA determined that the Noise Exposure Maps (NEMs) submitted by Broward County under Part 150 were in compliance with applicable requirements. On October 12, 2022, the FAA determined that it would be initiating final review of the noise compatibility program submitted by Broward County for approval or disapproval. On March 30, 2023, the FAA approved the Fort Lauderdale-Hollywood International Airport NCP Update. The NCP contained four noise abatement measures, six land use measures, and nine program management measures. Three of the four noise abatement measures proposed at FLL are related to new or revised flight procedures. Of the 19 measures proposed, 15 were approved, one was approved as voluntary, and three were disapproved for purposes of part 150.

APPLICABLE DATE: The effective date of the FAA's approval of the Fort Lauderdale-Hollywood International Airport NCP Update is March 30, 2023.

FOR FURTHER INFORMATION CONTACT: Peter Green, Federal Aviation Administration, Orlando Airports District Office, 8427 SouthPark Circle, Suite 524, Orlando, Florida 32819, (407) 487-7296. Documents reflecting this FAA action may be reviewed at this same location by appointment with the above contact.

SUPPLEMENTARY INFORMATION: This notice announces FAA's approval of the Noise Compatibility Program Update for the Fort Lauderdale-Hollywood International Airport (FLL), effective on March 30, 2023. Per United States Code section 47504 (49 U.S.C. 47504) and Title 14, Code of Federal Regulations (CFR) part 150, an airport sponsor who previously submitted a noise exposure map (NEM) may submit to the FAA a noise compatibility program which sets forth the measures taken or proposed by the airport sponsor for the reduction of existing non-compatible land uses and prevention of additional non-compatible land uses within the area covered by the NEMs. As required by 49 U.S.C. 47504, such programs must be developed in consultation with interested and affected parties including local communities, government agencies, airport users, and the FAA. The FAA does not substitute its judgment for that of the airport sponsor with respect to which measures should be recommended for action. The FAA approval or disapproval of an airport sponsor's recommendations in their noise compatibility program are made in accordance with the requirements and standards pursuant to 49 U.S.C. 47504 and 14 CFR part 150, which is limited to the following determinations:

a. The noise compatibility program was developed in accordance with the provisions and procedures of 14 CFR 150.23;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations of FAA's approval of NCPs are delineated in 14 CFR 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the noise compatibility program nor a determination that all measures covered by the NCP are eligible for grant-in-aid funding from the FAA. Where federal funding is sought, requests must be submitted to the FAA Orlando Airports District Office at 8427 SouthPark Circle, Suite 524, Orlando, Florida 32819.

Broward County submitted the noise exposure maps, descriptions, and other documentation produced during the noise compatibility planning study to the FAA and the FAA determined that the NEMs for FLL were in compliance with applicable requirements under 14 CFR 150, effective October 3, 2019 (Noise Exposure Map Notice for Fort Lauderdale-Hollywood International Airport, Fort Lauderdale, FL, volume 84, Federal Register, pages 54942-3, October 11, 2019). The FAA formally received the NCP based on the accepted NEMs for FLL on December 20, 2021. The airport operator requested that the FAA review the submitted material and that the noise mitigation measures, to be implemented jointly by the airport and surrounding communities, be approved as a NCP. The formal review period, limited by law to a maximum of 180 days, was initiated on October 12, 2022. Notice of the intent to review the NCP was published in the Federal Register on October 18, 2022 (Notice of Receipt of Noise Compatibility Program Update and Request for Review, volume 87, Federal Register, pages 63146-7, October 18, 2022). The Federal Register Notice also announced the start of a 60-day period of public review for the NCP documentation. The FAA received one comment from an interested party during the public review period and one comment after the comment period closed.

The FLL NCP is comprised of actions designed for phased implementation by airport management and adjacent jurisdictions within the next one to five years. It was requested that the FAA evaluate and approve this material as a noise compatibility program as described in 49 U.S.C. 47504. The FAA began its review of the program on October 12, 2022 and was required by a provision of 49 U.S.C. 47504 to approve or disapprove the program within 180 days, other than the use of new or modified flight procedures for noise control. Failure to approve or disapprove such program within the 180-day period shall be deemed an approval of such program.

The submitted program contained 19 proposed measures to minimize impacts of aviation noise on and off the airport. The FAA completed its review and determined that the procedural and substantive requirements of the 49 U.S.C. 47504 and 14 CFR part 150 were satisfied. A Record of Approval for the overall program was issued by the FAA effective March 30, 2023.

The specific program elements and their individual determinations are as follows:

FLL Noise Abatement Measure 1 (NA-1): Continue Voluntary User Program for Runway 10R-28L—Approved as a Voluntary Measure.

FLL Noise Abatement Measure 2 (NA-2): Reduce Early Aircraft Departure Turns from FLL through Implementation of ELSO or ELSO-Equivalent Procedures During West-Flow Conditions—Disapproved for Purposes of Part 150.

FLL Noise Abatement Measure 3 (NA-3): Reduce Early Aircraft Departure Turns from FLL through Implementation of ELSO or ELSO-Equivalent Procedures during East-Flow Conditions—Disapproved for Purposes of Part 150.

FLL Noise Abatement Measure 4 (NA-4): Modify Aircraft Arrival Profiles to the West of FLL to Keep Aircraft Higher—Disapproved for Purposes of Part 150.

FLL Land Use Measure LU-1: Implement a Voluntary Acquisition Program for a Portion of the Ocean Waterway Mobile Home Park—Approved.

FLL Land Use Measure LU-2: Implement a Voluntary Acquisition Program for a Portion of the Everglades Lakes Mobile Home Park—Approved.

FLL Land Use Measure LU-3: Implement a Voluntary Residential Sound Insulation Program for Eligible Dwelling Units located in the Future Conditions (2023) DNL 65 and Higher Contours—Approved.

FLL Land Use Measure LU-4: Encourage Local Jurisdictions to Implement Real Estate Fair Disclosure Requirements that Address Potential for Aircraft-Related Noise—Approved.

FLL Land Use Measure LU-5: Encourage Local Jurisdictions to Incorporate Planning Actions in their Respective Comprehensive Plans related to Aircraft Noise that are Consistent with the Policies of the BrowardNEXT Plan—Approved.

FLL Land Use Measure LU-6: Encourage Local Jurisdictions Efforts to Incorporate Noise Overlay Zoning Ordinances to Regulate Sound Attenuation and Compatible Land Uses near the Airport—Approved.

FLL Program Management Measure 1 (PM-1): Maintain the Existing Noise Office and Information web page—Approved.

FLL Program Management Measure 2 (PM-2): Evaluate/Update the Existing Noise Monitoring and Flight Tracking System—Approved.

FLL Program Management Measure 3 (PM-3): Maintain Noise Complaint Management System—Approved.

FLL Program Management Measure 4 (PM-4): Conduct Community Outreach Activities—Approved.

FLL Program Management Measure 5 (PM-5): Evaluate the Composition of the ANAC—Approved.

FLL Program Management Measure 6 (PM-6): Install Runway Reminder Signs—Approved.

FLL Program Management Measure 7 (PM-7): Evaluate a Voluntary Fly Quiet Program—Approved.

FLL Program Management Measure 8 (PM-8): Update the Noise Exposure Maps—Approved.

FLL Program Management Measure 9 (PM-9): Update the Noise Compatibility Program—Approved.

These determinations are set forth in detail in the Record of Approval signed by the FAA Airports Southern Division Deputy Director on March 30, 2023. The Record of Approval, as well as other evaluation materials and the documents comprising the submittal, are available for review at the FAA office listed above. The Record of Approval will also be available on the internet on the FAA's website at http://www.faa.gov/airports/environmental/airport_noise/part_150/states/ and Broward County's FLL Part 150 Study website at http://www.fllpart150.com.

Issued in Orlando, FL, on April 4, 2023.
Bartholomew Vernace,
Manager, Airports District Office, Southern Region.

[FR Doc. 2023-07451 Filed 4-7-23; 8:45 am]

BILLING CODE P